ENVIRONMENTAL PROTECTION AGENCY

[FRL-6861-6]

Agency Information Collection Activities: Proposed Collection; Comment Request; SEA and Recordkeeping Requirements for On-Highway HD Engines, Nonroad Large CI Engines, On-Highway LD Vehicles and LD Trucks; Exemptions; Emission Defect Information and Voluntary Emission Recall Reports; Marine Certification and AB&T; Marine Production Line Testing; Marine In-Use Testing Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB); Selective Enforcement Auditing and Recordkeeping Requirements for On-highway Heavy Duty Engines, Nonroad Large Compression Ignition Engines, On-highway Light Duty Vehicles and Light Duty Trucks, EPA ICR Number 0011.09, OMB Control Number 2060-0064, expiration date: 8/30/00; Pre-Certification and Testing Exemption Reporting and Recordkeeping Require-ments, EPA ICR Number 0095.10, OMB Control Number 2060-0007, expiration date: 7/31/00; Emission Defect Information and Voluntary Emission Recall Reports, EPA ICR Number 0282.10, OMB Control Number 2060-0048, expiration date: 8/30/00; Spark Ignition Marine Engine Application for Emission Certification, and Participation in the Averaging, Banking, and Trading Program, EPA ICR Number 1722.02, Previous OMB Control Number 2060-0321, expiration date:7/31/00. Marine Engine Manufacturers Production Line Testing Reporting and Recordkeeping Requirements, EPA ICR Number 1725.02, OMB Control Number 2060-0323, expiration date: 7/31/00; Marine Engine Manufacturer In-Use Testing Program, EPA ICR Number 1726.02, OMB Control Number 2060-0322, expiration date: 7/31/00.

Before submitting the ICR to OMB for review and approval, EPA is soliciting comments on specific aspects of the proposed information collection as described below.

DATES: Comments must be submitted on or before October 30, 2000.

ADDRESSES: Office of Transportation and Air Quality, Certification and Compliance Division, Engine Compliance Programs Group, Ariel Ríos Building, 1200 Pennsylvania Ave., NW, Mail Code 6403J, Washington, DC 20460. Interested persons may request a copy of the ICRs without charge from the contact person below.

FOR FURTHER INFORMATION CONTACT: Nydia Y. Reyes-Morales, tel.: (202) 564-9264; fax: (202) 565-2057; e-mail: reyes-morales.nydia@epa.gov

SUPPLEMENTARY INFORMATION:

Affected entities: Entities potentially affected by this action are those which manufacture engines.

Title: Selective Enforcement and Recordkeeping Requirements for On-Highway Heavy Duty Engines, Nonroad Large Compression Ignition Engines, On-Highway Light Duty Vehicles and Light Duty Trucks (OMB Control Number 2060-0064, EPA ICR Number 0011.09) expiring 8/30/00.

Abstract: As part of the Selective Enforcement Auditing (SEA) Programs, authorized by Section 206(d) and 213 (d) of the Clean Air Act (CAA), manufacturers are required to submit periodic reports and information before and after SEAs. The information requested include pre-audit data (such as projected annual sales, production volumes and voluntary assembly line test data), and audit data (detailed production information, records for test equipment, test data and reports). This information is evaluated to determine if production engines comply with applicable exhaust emission standards.

Title: Pre-Certification and Testing Exemption Reporting and Recordkeeping Requirements (OMB Control Number 2060-0007, EPA ICR Number 0095.10) expiring 7/31/00.

Abstract: EPA may grant pre-certification and testing exemptions for engines to be used under certain circumstances, such as displays, research, national security, and exportation. Pre-certification exemptions are granted to Independent Commercial Importers who want to bring an engine into the country to be tested, modified, and eventually certified and resold. Some engines are exempt without application, subject to the provisions of 40 CFR Subpart J. The application and/or exemption records kept under this information collection are used to ensure that uncertified engines are not introduced into commerce except for legitimate purposes and are not available for use unless they are covered by an exemption.

Title: Emission Defect Information and Voluntary Emission Recall Reports (OMB Control Number 2060-0048, EPA ICR Number 0282.10) expiring on 8/30/00.

Abstract: Engine manufacturers are required, under the authority of Section 208(a) of the CAA, to report emission-related defects found in a number of engines. Manufacturers submit Voluntary Emission Recall Reports to notify EPA when they initiate a recall campaign. Defect Information and Emission Recall Reports are used by EPA to target potentially non-conforming engines for future testing and to ensure that engines comply with emission standards throughout their useful life.

Title: Spark Ignition Marine Engine Application for Emission Certification, and Participation in the Averaging, Banking, and Trading Program, EPA ICR Number 1722.02, Previous OMB Control Number 2060-0321, expiration date: 7/31/00.

Abstract: Under Title II of the Clean Air Act (42 U.S.C. 7521 et seq.; CAA or the Act), EPA is charged with issuing certificates of conformity for those engines which comply with applicable emission standards. Such a certificate must be issued before engines may be legally introduced into commerce. To apply for a certificate of conformity, manufacturers are required to submit descriptions of their planned production line, including detailed descriptions of the emission control system, and test data. This information is organized by “engine family” groups expected to have similar emission characteristics. There are also recordkeeping and labeling requirements.

Those manufacturers electing to participate in the Averaging Banking and Trading Program for marine engines are also required to submit information regarding the calculation of projected and actual generation and usage of credits in an initial report, end-of-the-year report and final report. These reports are used for certification and enforcement purposes. Manufacturers will also maintain records for eight years on the engine families included in the program.

Title: Marine Engine Manufacturers Production Line Testing Reporting and Record-keeping Requirements (OMB Control Number 2060-0323, EPA ICR Number 1725.02) expiring 7/31/00.

Abstract: The Production Line Testing Program (PLT) is a self-audit program, promulgated under the authority of Section 213(d) of the CAA, in which marine engine manufacturers test engines as they leave the assembly line. It's objective is for EPA and the manufacturers to determine with statistical certainty whether new engines in fact comply with emission standards. By detecting problems while engines are still in production, noncomformities are detected and corrected before engines are introduced into commerce or soon after production when engines are most easily located. EPA uses the data obtained through the PLT to determine compliance with emission regulations and whether a Selective Enforcement Audit is needed.

Title: Marine Engine Manufacturer-Based In-Use Emission Testing Program (OMB Control Number 2060-0322, EPA ICR Number 1726.02) expiring 7/31/00.

Abstract: This information collection requires manufacturers of marine engines to submit to EPA quarterly reports with emission data generated in the manufacturer's own in-use testing program. This information, collected under the authority of Sections 207(c) and 213(d) of the CAA, is used to determine whether in-use marine engines comply with emission standards throughout their useful lives.

All the information requested by these collections is required for various programs' implementation and activities. The information is collected by the Engine Compliance Programs Group, Certification and Compliance Division, Office of Transportation and Air Quality, Office of Air and Radiation, except for information pertaining to Light Duty Vehicles and Light Duty Trucks which is collected by the Vehicle Compliance Programs Group. Information submitted by manufacturers is held as confidential until the specific engine to which it pertains is available for purchase. Confidentiality to proprietary information is granted in accordance with the Freedom of Information Act, EPA regulations at 40 CFR 2, and class determinations issued by EPA's Office of General Counsel. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: The burden of the existing ICRs is set forth in Table I. These burden estimates include the burden associated with the initial stages of the programs. Since manufacturers have already spent the time required to initiate the programs, we expect that, once we review the existing ICRs, the revised estimates will be substantially less.

Table I.—Burden Statement
ICR | Estimated average burden hours/ response | Frequency | Number of respondents (#engine families) | Cost per response (per engine family) | Capital and start up cost | Operation/maintenance costs | Purchase of services cost
SEA:
On-Highway HDE | 984.8 | 1 | 22 | $58,714 | $0 | $0 | $0
CI Engines | 1,644.8 | 1 | 46 | $98,314 | $0 | $0 | $0
LDV/LDT | 984.8 | 1 | 20 | $7,710 | $0 | $0 | $0
Exemptions:
Pre-certification | 30 | 1 | 10 | $1,140 | $0 | $0 | $0
Testing | 190 | 1 | 40 | $7,220 | $0 | $0 | $0
Defect Information and Recall Reports | 174 | 1 | 38 | $8,526 | $0 | $0 | $0
Marine Certification | 9,321.5 | 1 | 10(67) | ($559,290) | $0 | $0 | $0
Marine AB&T | 728 | 4 | 10 | $42,524 | $0 | $0 | $0
Marine PLT | 1,745 | 4 | 10 | $104,502 | $0 | $0 | $0
Marine In-Use Prog | 938 | 14 | 11 | $53,576 | $0 | $0 | $0

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 25, 2000.
Robert Brenner,
Acting Assistant Administrator for Air and Radiation.

[FR Doc. 00-22373 Filed 8-30-00; 8:45 am]

BILLING CODE 6560-50-P